ENVIRONMENTAL PROTECTION AGENCY

[FRL-8699-5]

Notice of Availability of Final NPDES General Permits for Noncontact Cooling Water Discharges in the Commonwealth of Massachusetts (Including Both Commonwealth and Indian Country Lands) and the State of New Hampshire

AGENCY: Environmental Protection Agency (EPA).

ACTION: Notice of Availability of Final NPDES General Permits MAG250000 and NHG250000.

SUMMARY: The Director of the Office of Ecosystem Protection, EPA-New England, is today providing notice of availability of the final National Pollutant Discharge Elimination System (NPDES) general permits for noncontact cooling water (NCCW) discharges to certain waters of the Commonwealth of Massachusetts (including both Commonwealth and Indian country lands) and the State of New Hampshire.

The general permits replace the NCCW general permits which expired on April 25, 2005. The general permits establish permit eligibility conditions, Notice of Intent (NOI) requirements, effluent limitations, standards, prohibitions, and management practices for facilities discharging NCCW. Owners and/or operators of facilities discharging NCCW, including those currently authorized to discharge under the expired general permits, are required to submit an NOI to be covered by one of the general permits to both EPA-New England and the appropriate State agency. EPA and the State will review the NOI and the facility will receive written notification from EPA stating whether permit coverage and authorization to discharge under one of the general permits is approved. The eligibility requirements for coverage under the general permits are discussed in detail under Part 3 of the permits. The reader is strongly urged to go to that section of the general permits to determine eligibility. The general permits do not cover new sources as defined at 40 CFR 122.2.

DATES: The general permits shall be effective on July 31, 2008, and they will expire at midnight, five (5) years from the last day of the month preceding the effective date.

ADDRESSES: The required notification information to obtain permit coverage is provided for in the general permits. This information shall be submitted to both EPA and the appropriate State. Notification information may be sent via USPS, email or fax to EPA at EPA-Region 1, Office of Ecosystem Protection (CMU), One Congress Street, Boston, Massachusetts, 02114-2023; e-mail address NCCWGP@EPA.GOVRegion01; or fax number (617) 918-2188. Notification information shall be submitted to the appropriate State agency at the addresses listed in the general permits, Part 5.9. See also Appendix 6, State Agency Notification Requirements and Mailing Addresses.

FOR FURTHER INFORMATION CONTACT: Additional information concerning the final general permits may be obtained between the hours of 9 a.m. and 5 p.m. Monday through Friday, excluding holidays, from Austine Frawley at Frawley.Austine@EPA.GOV or (617) 918-1065.

SUPPLEMENTARY INFORMATION: The general permits may be viewed over the Internet at the EPA Web site http://www.epa.gov/region1/npdes/nccwgp.html. To obtain a paper copy of the general permits, please contact Ms. Frawley using the contact information provided above. A reasonable fee may be charged for copying requests.

Dated: July 24, 2008.
Ira W. Leighton,
Acting Regional Administrator, Region 1.

[FR Doc. E8-17599 Filed 7-30-08; 8:45 am]

BILLING CODE 6560-50-P